DEPARTMENT OF TRANSPORTATION

Federal Transit Administration

Notice of FTA Transit Program Changes, Authorized Funding Levels and Implementation of the Infrastructure Investment and Jobs Act; and FTA Fiscal Year 2022 Apportionments, Allocations, Program Information and Interim Guidance; Correction

AGENCY: Federal Transit Administration (FTA), Department of Transportation (DOT).

ACTION: Notice; correction.

SUMMARY: On April 28, 2022, the Federal Transit Administration (FTA) published a notice in the Federal Register apportioning funds appropriated by law. The notice provided information on the FY 2022 funding available for the FTA assistance programs, and provides program guidance and requirements. This notice provides a needed correction to that notice regarding pre-award authority, FY 2022 Section 5311 Formula Grants for Rural Areas Program and Rural Transportation Assistance Program funding, and the expenditure deadline for the FY 2015 Transportation Investment Generating Economic Recovery (TIGER VII) Discretionary Grants.

FOR FURTHER INFORMATION CONTACT: For general information about this notice contact John Bodnar, Director, Office of Transit Programs, at (202) 366-2053. Please contact the appropriate FTA Regional Office for any specific requests for information or technical assistance. FTA Regional Office contact information is available at: https://www.transit.dot.gov/about/regional-offices/regional-offices.

An FTA headquarters contact for each major program area is included in the discussion of that program in the text of this notice. FTA recommends that stakeholders subscribe to GovDelivery (https://public.govdelivery.com/accounts/USDOTFTA/subscriber/new) to receive email notifications when new information is available.

SUPPLEMENTARY INFORMATION:

Correction

In the Federal Register of April 28, 2022, FR Doc. 2022-09143 make, on the following corrections:

1. On page 25376, in the second column under the heading “1. Authorized Amounts,” correct the table to read as follows:

Fiscal year | 2022 | 2023 | 2024 | 2025 | 2026
Funds Authorized | $787,760,599 | $804,217,747 | $825,216,831 | $842,263,841 | $863,675,829

2. On the same page, in the first column under the heading “2. FY 2022 Funding Availability,” correct the paragraph and table to read as follows:

“In FY 2022, a total of $787,760,599 is authorized and appropriated for the section 5311 program for the period October 1, 2021, through September 30, 2022. The total amount apportioned is $896,275,765 to Section 5311 programs and includes the amount for Growing States formula factors, reapportioned funds, and deduction for oversight (required by section 5338), as shown in the table below.”

Formula Grants for Rural Areas Program—FY 2022
Total Appropriation | $787,760,599
Oversight Deductions | (4,376,448)
Section 5340 Growing States | 112,286,712
Reapportioned Funds | 604,902
Total Apportioned | 896,275,765

3. On Page 25377, in the first column under the heading “1. Authorized Amount,” correct the table to read as follows:

Fiscal year | 2022 | 2023 | 2024 | 2025 | 2026
Funds Authorized | $17,505,791 | $17,871,506 | $18,338,152 | $18,716,974 | $19,192,796

4. On the same page, in the first column under the heading “2. FY 2022 Funding Availability,” correct the paragraph and table to read as follows:

“In FY 2022, $17,505,791 is authorized and appropriated for the Section 5311 RTAP program. After the reduction to the National RTAP program, and the addition of reapportioned funds a total of $14,951,719 is available for allocation to the States, as shown in the table below.”

Rural Transportation Assistance Program—FY 2022
Total Appropriation | $17,505,791
National RTAP | (2,625,869)
Reapportioned Funds | 71,797
Total Apportioned | 14,951,719

5. On Page 25386, in the second column, under the heading “2. Policy,” correct the following sentence that reads: “In this notice, FTA provides pre-award authority through the authorization period of the IIJA (October 1, 2022, through September 30, 2026) for capital assistance under all formula programs, so long as the conditions described below are met.” to read as follows: “In this notice, FTA provides pre-award authority through the authorization period of the IIJA (October 1, 2021, through September 30, 2026) for capital assistance under all formula programs, so long as the conditions described below are met. Previous notices provided pre-award authority applicable through September 30, 2021.”

6. On page 25392, in the second column under the heading “3. Transportation Investments Generating Economic Recovery (TIGER), Better Utilizing Investments to Leverage Development (BUILD) and Rebuilding American Infrastructure with Sustainability and Equity (RAISE) Discretionary Grants,” correct the paragraph to read as follows:

“Recipients of open TIGER, BUILD and RAISE grants should be aware that, as matter of law, all remaining TIGER funds must be disbursed from grants by the end of the fifth fiscal year after the Expiration of Obligation Authority. (See 31 U.S.C. 1552.) For FTA TIGER VII projects, Section 105—Administrative Provisions—Office of the Secretary of Transportation of the Consolidated Appropriations Act, 2022 (Pub. L. 117-103, March 15, 2022), extended the availability of remaining TIGER VII funds for one year, through September 30, 2023. Recipients of open TIGER VII projects are encouraged to contact the appropriate FTA Regional Office with questions about the extension.”

Nuria I. Fernandez,
Administrator.

[FR Doc. 2022-14963 Filed 7-12-22; 8:45 am]

BILLING CODE 4910-57-P